DEPARTMENT OF STATE

[Public Notice 8800]

30-Day Notice of Proposed Information Collection: Medical Examination for Immigrant or Refugee Applicant

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to August 20, 2014.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Sydney Taylor at PRA_BurdenComments@state.gov.

SUPPLEMENTARY INFORMATION: • Title of Information Collection: Medical Examination for Immigrant or Refugee Applicant.

• OMB Control Number: 1405-0113.

• Type of Request: Revision of a Currently Approved Collection.

• Originating Office: CA/VO/L/R.

• Form Number: DS-2053, DS-3024, DS-3025, DS-3026, DS-3030, DS-2054.

• Respondents: Immigrant or Refugee Applicant.

• Estimated Number of Respondents: 660,000.

• Estimated Number of Responses: 660,000.

• Average Time per Response: 1 hour.

• Total Estimated Burden Time: 660,000 hours.

• Frequency: Once per respondent.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Forms for this collection are completed by panel physicians for refugees and aliens seeking immigrant visas to the U.S. The collection records medical information necessary to determine whether refugees or immigrant visa applicants have medical conditions affecting the public health and requiring treatment.

Methodology

A panel physician, contracted by the consular post in accordance with instructions issued by the Centers for Disease Control (CDC), performs the medical examination of the applicant and completes the forms. The CDC also provides panel physicians with technical instructions (TIs) for completing the form. Panel physicians follow either the 1991 version or the 2007 version of the TIs. Forms DS-2053 and DS-3024 correspond with the 1991 TIs; Form DS-2054 and Form DS-3030 correspond with the 2007 TIs. Forms DS-3025 and DS-3026 correspond with both sets of TIs. Upon completing the applicant's medical examination, the examining panel physician submits a report to the consular officer on Form DS-2053 or DS-2054.

Dated: June 19, 2014.
Karin King,
(Acting) Deputy Assistant Secretary, Bureau of Consular Affairs, Department of State.

[FR Doc. 2014-17100 Filed 7-18-14; 8:45 am]

BILLING CODE 4710-06-P